DEPARTMENT OF COMMERCE

International Trade Administration

[C-570-942]

Certain Kitchen Shelving and Racks From the People's Republic of China: Extension of Time Limit for Preliminary Results of Countervailing Duty Administrative Review

AGENCY: Import Administration, International Trade Administration, Department of Commerce.

FOR FURTHER INFORMATION CONTACT: Jennifer Meek or Mary Kolberg, AD/CVD Operations, Office 1, Import Administration, International Trade Administration, U.S. Department of Commerce, 14th Street and Constitution Avenue NW., Washington, DC 20230; telephone: (202) 482-2778 or (202) 482-1875, respectively.

SUPPLEMENTARY INFORMATION:

Background

On October 31, 2011, the Department of Commerce (“the Department”) published notice of initiation of the administrative review of the countervailing duty order on certain kitchen appliance shelving and racks from the People's Republic of China, covering the review period January 1, 2010, through December 31, 2010. See Initiation of Antidumping and Countervailing Duty Administrative Reviews, 76 FR 67133, 67141 (October 31, 2011).

The current deadline for the preliminary results of this administrative review is June 1, 2012.

Extension of Time Limit for Preliminary Results

Section 751(a)(3)(A) of the Tariff Act of 1930, as amended (“the Act”), requires the Department to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

We require additional time to adequately analyze all questionnaire responses and to solicit and receive supplemental information before the current preliminary results due date. Consequently, we have determined that it is not practicable to complete the preliminary results of this review within the original time limit (i.e., by June 1, 2012). Therefore, the Department is extending the time limit for completion of the preliminary results by 120 days to not later than September 29, 2012, in accordance with section 751(a)(3)(A) of the Act and 19 CFR 351.213(h)(2). Department practice dictates that, where a deadline falls on a weekend or federal holiday, the appropriate deadline is the next business day. See Notice of Clarification: Application of “Next Business Day” Rule for Administrative Determination Deadlines Pursuant to the Tariff Act of 1930, As Amended, 70 FR 24533 (May 10, 2005). Because September 29, 2012, is a Saturday, the Department will therefore issue the preliminary results in this administrative review no later than October 1, 2012.

We are issuing and publishing this notice in accordance with sections 751(a)(3)(A) and 777(i)(1) of the Act.

Dated: May 1, 2012.
Christian Marsh,
Deputy Assistant Secretary for Antidumping and Countervailing Duty Operations.

[FR Doc. 2012-11050 Filed 5-7-12; 8:45 am]

BILLING CODE 3510-DS-P